NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold twenty-one meetings, by video conference, of the Humanities Panel, a Federal advisory committee, during October 2024. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: October 2, 2024

This video meeting will discuss applications on the topic of World Studies, for the Humanities Collections and Reference Resources grant program, submitted to the Division of Preservation and Access.

2. Date: October 3, 2024

This video meeting will discuss applications on the topic of Early Americans, for the Humanities Collections and Reference Resources grant program, submitted to the Division of Preservation and Access.

3. Date: October 9, 2024

This video meeting will discuss applications on the topic of Literary Studies, for the Humanities Collections and Reference Resources grant program, submitted to the Division of Preservation and Access.

4. Date: October 10, 2024

This video meeting will discuss applications on the topic of Media Studies, for the Humanities Collections and Reference Resources grant program, submitted to the Division of Preservation and Access.

5. Date: October 15, 2024

This video meeting will discuss applications on the topics of Arts and Culture, for the Media Projects: Production Grants program, submitted to the Division of Public Programs.

6. Date: October 15, 2024

This video meeting will discuss applications on the topic of New Iowa State Humanities Council, for the State Humanities Councils General Operating Support Grants program, submitted to the Office of Federal/State Partnership.

7. Date: October 16, 2024

This video meeting will discuss applications on the topic of Indigenous Studies, for the Public Humanities Projects: Exhibitions (Implementation) grant program, submitted to the Division of Public Programs.

8. Date: October 16, 2024

This video meeting will discuss applications on the topic of U.S. History, for the Humanities Collections and Reference Resources grant program, submitted to the Division of Preservation and Access.

9. Date: October 17, 2024

This video meeting will discuss applications on the topic of African American History, for the Humanities Collections and Reference Resources grant program, submitted to the Division of Preservation and Access.

10. Date: October 17, 2024

This video meeting will discuss applications on the topic of U.S. History, for the Public Humanities Projects: Exhibitions (Implementation) grant program, submitted to the Division of Public Programs.

11. Date: October 18, 2024

This video meeting will discuss applications on the topic of American Studies, for the Media Projects: Production Grants program, submitted to the Division of Public Programs.

12. Date: October 22, 2024

This video meeting will discuss applications on the topics of Music and Performing Arts, for the Humanities Collections and Reference Resources grant program, submitted to the Division of Preservation and Access.

13. Date: October 22, 2024

This video meeting will discuss applications on the topic of Discussions, for the Public Humanities Projects: Exhibitions (Implementation) grant program, submitted to the Division of Public Programs.

14. Date: October 23, 2024

This video meeting will discuss applications on the topic of Place Based, for the Public Humanities Projects: Exhibitions (Implementation) grant program, submitted to the Division of Public Programs.

15. Date: October 24, 2024

This video meeting will discuss applications on the topic of U.S. History, for the Public Humanities Projects: Exhibitions (Implementation) grant program, submitted to the Division of Public Programs.

16. Date: October 25, 2024

This video meeting will discuss applications on the topics of Arts and Culture, for the Media Projects: Production Grants program, submitted to the Division of Public Programs.

17. Date: October 29, 2024

This video meeting will discuss applications on the topic of World History, for the Media Projects: Production Grants program, submitted to the Division of Public Programs.

18. Date: October 29, 2024

This video meeting will discuss applications on the topic of Indigenous Studies, for the Humanities Collections and Reference Resources grant program, submitted to the Division of Preservation and Access.

19. Date: October 30, 2024

This video meeting will discuss applications on the topic of U.S. History, for the Humanities Collections and Reference Resources grant program, submitted to the Division of Preservation and Access.

20. Date: October 30, 2024

This video meeting will discuss applications on the topic of World History, for the Media Projects: Production Grants program, submitted to the Division of Public Programs.

21. Date: October 31, 2024

This video meeting will discuss applications on the topics of Arts and Culture, for the Public Humanities Projects: Exhibitions (Implementation) grant program, submitted to the Division of Public Programs.

Because these meetings will include review of personal and/or proprietary financial and commercial information given in confidence to the agency by grant applicants, the meetings will be closed to the public pursuant to sections 552b(c)(4) and 552b(c)(6) of title 5, U.S.C., as amended. I have made this determination pursuant to the authority granted me by the Chair's Delegation of Authority to Close Advisory Committee Meetings dated April 15, 2016.

Dated: September 10, 2024.
Jessica Graves,
Paralegal Specialist, National Endowment for the Humanities.

[FR Doc. 2024-20920 Filed 9-13-24; 8:45 am]

BILLING CODE 7536-01-P